DEPARTMENT OF DEFENSE

Defense Acquisition Regulations System

48 CFR Parts 232 and 252

RIN 0750-AF63

Defense Federal Acquisition Regulation Supplement; Mandatory Use of Wide Area WorkFlow (DFARS Case 2006-D049)

AGENCY: Defense Acquisition Regulations System, Department of Defense (DoD).

ACTION: Proposed rule with request for comments.

SUMMARY: DoD is proposing to amend the Defense Federal Acquisition Regulation Supplement (DFARS) to require use of the Wide Area WorkFlow-Receipt and Acceptance (WAWF-RA) electronic system for submitting and processing payment requests under DoD contracts. DoD-wide use of WAWF-RA will increase the efficiency of the payment process.

DATES: Comments on the proposed rule should be submitted in writing to the address shown below on or before October 15, 2007, to be considered in the formation of the final rule.

ADDRESSES: You may submit comments, identified by DFARS Case 2006-D049, using any of the following methods:

• Federal eRulemaking Portal: http://www.regulations.gov. Follow the instructions for submitting comments.

• E-mail: dfars@osd.mil. Include DFARS Case 2006-D049 in the subject line of the message.

• Fax: (703) 602-7887.

• Mail: Defense Acquisition Regulations System, Attn: Mr. John McPherson, OUSD (AT&L) DPAP (CPF), IMD 3D139, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Mr. John McPherson, (703) 602-0296.

SUPPLEMENTARY INFORMATION:

A. Background

This proposed rule amends DFARS Subpart 232.70, and the contract clause at DFARS 252.232-7003, to require use of the WAWF-RA electronic system for submission and processing of payment requests under DoD contracts. DFARS Subpart 232.70 presently identifies three accepted electronic forms of transmitting payment requests under DoD contracts. Those are (1) American National Standards Institute (ANSI) X.12 Electronic Data Interchange (EDI); (2) Web Invoicing System; and (3) WAWF-RA. The proposed rule will still allow a contractor to submit a payment request through an electronic means other than WAWF-RA, or in a non-electronic format, if authorized by the contracting officer. In addition, the proposed rule will allow contractors to submit ANSI X.12 EDI transactions through WAWF-RA.

The proposed changes will reduce the problems created by DoD's nonintegrated financial systems, by facilitating the electronic transmission of payment documents and related data. WAWF-RA, when fully implemented and utilized, will eliminate paper documents, eliminate redundant data entry, improve data accuracy, reduce the number of lost or misplaced documents, and ultimately, result in more timely payments to contractors.

This rule was not subject to Office of Management and Budget review under Executive Order 12866, dated September 30, 1993.

B. Regulatory Flexibility Act

DoD has prepared an initial regulatory flexibility analysis consistent with 5 U.S.C. 603. A copy of the analysis may be obtained from the point of contact specified herein. The analysis is summarized as follows:

The objective of the proposed rule is to fully automate the payment process, including receiving reports, to significantly improve the timeliness of payments and to reduce DoD's interest charges for late payments. The proposed rule continues DoD's implementation of the electronic invoicing requirements of 10 U.S.C. 2227, as added by Section 1008 of the National Defense Authorization Act for Fiscal Year 2001 (Pub. L. 106-398).

American National Standards Institute (ANSI) X.12 Electronic Data Interchange (EDI) and Web Invoicing System (WInS) cannot process all DoD payment request types, nor can they process receiving reports. In addition, EDI and WInS information cannot be made available to all interested Government offices and organizations. WAWF-RA is the only DoD system that can process all payment request types as well as receiving reports. WAWF-RA keeps historical files that are readily available for both contractor and Government use. In addition, the use of WAWF-RA has contributed significantly to improving the timeliness of payments and to DoD's goal of reducing interest charges for late payments.

The proposed rule changes the electronic systems available for submitting invoices to DoD. Approximately 1,000 small entities will be required to switch from the existing WInS to the WAWF-RA system, used by over 20,000 small entities. Both systems involve submission of invoices through the World Wide Web. Approximately 1 hour is needed to learn the new system. No reporting, recordkeeping, or compliance records will be required from small entities. All such records will be generated by DoD as a by-product of the use of the required systems.

DoD invites comments from small businesses and other interested parties. DoD also will consider comments from small entities concerning the affected DFARS subparts in accordance with 5 U.S.C. 610. Such comments should be submitted separately and should cite DFARS Case 2006-D049.

C. Paperwork Reduction Act

The Paperwork Reduction Act does not apply, because the proposed rule does not impose any information collection requirements that require the approval of the Office of Management and Budget under 44 U.S.C. 3501, et seq.

List of Subjects in 48 CFR Parts 232 and 252

Government procurement.

Michele P. Peterson,
Editor, Defense Acquisition Regulations System.

Therefore, DoD proposes to amend 48 CFR parts 232 and 252 as follows:

1. The authority citation for 48 CFR parts 232 and 252 continues to read as follows:

Authority: 41 U.S.C. 421 and 48 CFR Chapter 1.

PART 232—CONTRACT FINANCING

2. Section 232.7002 is amended in paragraph (b) by revising the last sentence to read as follows:

232.7002 Policy.

* * * * *

(b) * * * Scanned documents are acceptable for processing supporting documentation other than receiving reports and other forms of acceptance.

* * * * *

3. Section 232.7003 is revised to read as follows:

232.7003 Procedures.

(a) The accepted electronic form for submission of payment requests is Wide Area WorkFlow-Receipt and Acceptance (see Web site— http://wawf.eb.mil/).

(b) If the payment office and the contract administration office concur, the contracting officer may authorize a contractor to submit a payment request using an electronic form other than Wide Area WorkFlow-Receipt and Acceptance. However, with this authorization, the contractor and the contracting officer shall agree to a plan, which shall include a timeline, specifying when the contractor will transfer to Wide Area WorkFlow-Receipt and Acceptance.

PART 252—SOLICITATION PROVISIONS AND CONTRACT CLAUSES

4. Section 252.232-7003 is amended as follows:

a. By revising the clause date;

b. In paragraph (a)(2), by revising the last sentence; and

c. By revising paragraphs (b) and (c) to read as follows:

252.232-7003 Electronic Submission of Payment Requests.

* * * * *

ELECTRONIC SUBMISSION OF PAYMENT REQUESTS (XXX 2007)

(a) * * *

(2) * * * However, scanned documents are acceptable when they are part of a submission of a payment request made using Wide Area WorkFlow-Receipt and Acceptance (WAWF-RA) or another electronic form authorized by the Contracting Officer.

* * * * *

(b) Except as provided in paragraph (c) of this clause, the Contractor shall submit payment requests using WAWF-RA, in one of the following electronic formats that WAWF-RA accepts: Electronic Data Interchange, Secure File Transfer Protocol, or World Wide Web input. Information regarding WAWF-RA is available on the Internet at https://wawf.eb.mil/.

(c) The Contractor may submit a payment request using other than WAWF-RA only when—

(1) The Contracting Officer authorizes use of another electronic form. With such an authorization, the Contractor and the Contracting Officer shall agree to a plan, which shall include a timeline, specifying when the Contractor will transfer to Wide Area WorkFlow-Receipt and Acceptance;

(2) DoD is unable to receive a payment request in electronic form; or

(3) The Contracting Officer administering the contract for payment has determined, in writing, that electronic submission would be unduly burdensome to the Contractor. In such cases, the Contractor shall include a copy of the Contracting Officer's determination with each request for payment.

* * * * *

[FR Doc. E7-15928 Filed 8-13-07; 8:45 am]

BILLING CODE 5001-08-P